DEPARTMENT OF TRANSPORTATION

Coast Guard

33 CFR Part 117

[CGD01-01-046]

Drawbridge Operation Regulations: Shaw Cove, CT

AGENCY: Coast Guard, DOT.

ACTION: Notice of temporary deviation from regulations.

SUMMARY: The Commander, First Coast Guard District, has issued a temporary deviation from the drawbridge operating regulations governing the operation of the Amtrak Bridge, at mile 0.0, across the Shaw Cove at New London, Connecticut. Under this deviation the bridge owner need not open the bridge for vessel traffic from 10 p.m. on April 4, 2001 through 10 p.m. on April 6, 2001. This action is necessary to facilitate necessary maintenance at the bridge.

DATES: This deviation is effective April 4, 2001, through April 6, 2001.

FOR FURTHER INFORMATION CONTACT: Joseph Schmied, Project Officer, First Coast Guard District, at (212) 668-7165.

SUPPLEMENTARY INFORMATION: The Amtrak Bridge, at mile 0.0, across the Shaw Cove has a vertical clearance of 3 feet at mean high water, and 6 feet at mean low water in the closed position. The existing drawbridge operating regulations are listed at 33 CFR 117.223.

The bridge owner, the National Railroad Passenger Corporation (Amtrak), requested a temporary deviation from the drawbridge operating regulations to facilitate necessary maintenance at the bridge. This deviation from the operating regulations allows the bridge owner to need not open the Amtrak Bridge for vessel traffic from 10 p.m. on April 4, 2001 through 10 p.m. on April 6, 2001. Vessels that can pass under the bridge without an opening may do so at all times during the closed period.

The bridge owner provided less than 30 days notice to the Coast Guard of its request to deviate from the drawbridge regulations on the specified dates. However, a deviation was previously approved to perform this work March 5, 2001 through March 8, 2001; that work was cancelled due to severe weather conditions during that period. Delaying the commencement of this maintenance to require an additional 30 days notice would be unnecessary and contrary to the public interest since this work involves vital maintenance that must be performed without undue delay. Known waterway users were contacted regarding the proposed closure period; none had any objection. Furthermore, performing the repairs before the recreational boating season begins will lessen the impact and inconvenience to other mariners that use this waterway.

In accordance with 33 CFR 117.35(c) this work will be performed with all due speed in order to return the bridge to normal operation as soon as possible. This deviation from the operating regulations is authorized under 33 CFR 117.35.

Dated: March 29, 2001.
G.N. Naccara,
Rear Admiral, U.S. Coast Guard, Commander, First Coast Guard District.

[FR Doc. 01-8447 Filed 4-5-01; 8:45 am]

BILLING CODE 4910-15-P